DEPARTMENT OF TRANSPORTATION

Federal Highway Administration

[Docket No. FHWA-2002-11722]

Agency Information Collection Activities; Request for Comments; Clearance of a New Information Collection; Public Knowledge of Highway Programs

AGENCY: Federal Highway Administration (FHWA), DOT.

ACTION: Notice and request for comments.

SUMMARY: The FHWA invites public comments about our intention to request the Office of Management and Budget's (OMB) approval for a new information collection. The collection involves a small business research study that is looking into the potential for a national public education program on various highway programs. During a small-scale trial the public will be asked via the web and mailings to comment on local construction issues and proposals. The information collected will be used solely to determine if response levels and public involvement would justify developing the approach across a larger cross-section of the United States population. We are required to publish this notice in the Federal Register by the Paperwork Reduction Act of 1995.

DATES: Please submit comments by May 20, 2002.

ADDRESSES: You may mail or hand deliver comments to the U.S. Department of Transportation, Dockets Management Facility, Room PL-401, 400 Seventh Street, SW., Washington, DC 20590; telefax comments to 202/493-2251; or submit electronically at http://dmses.dot.gov/submit. All comments should include the docket number in this notice's heading. All comments may be examined and copied at the above address from 9 a.m. to 5 p.m., e.t., Monday through Friday, except Federal holidays. If you desire a receipt you must include a self-addressed stamped envelope or postcard or, if you submit your comments electronically, you may print the acknowledgment page.

FOR FURTHER INFORMATION CONTACT: Ms. Kathleen Bergeron, 415-744-2613, Marketing Specialist, Department of Transportation, Federal Highway Administration, Western Resource Center, Suite 2100, 201 Mission Street, San Francisco, CA 94105 or e-mail to kathleen.bergeron@fhwa.dot.gov. Office hours are from 7:00 a.m. to 4:30 p.m., p.t., Monday through Friday, except Federal holidays.

SUPPLEMENTARY INFORMATION: Title: Public Knowledge of Highway Programs.

Background: Following a study performed under the DOT Small Business Innovative Research initiative, the FHWA plans to test some of the proposed ideas for increasing public education and awareness of various highway programs. These include involvement of the public early in the planning process by disseminating accurate and understandable information through a combination of Web sites and regular updates sent to local media, schools and colleges. We do not anticipate using every method in all instances, but will use a series of small-scale demonstrations to evaluate the effectiveness of each approach. Respondents will be asked for views and opinions about any local FHWA initiatives by using media coverage of local projects, Web site information, local mass mailings, or coverage on local cable television channels. We anticipate making maximum use of web-based e-learning and visualization technologies to present the information. We will evaluate which approaches are best.

Respondents: Approximately 200, including the general public, metropolitan planning organizations, various state transportation departments, local/municipal planning departments, schools and colleges.

Frequency: This is a one-time survey for the purposes of this study only.

Estimated Average Burden per Response: 30 minutes per questionnaire.

Estimated Total Annual Burden Hours: 100.

Public Comments Invited: You are asked to comment on any aspect of this information collection, including: (1) Whether the proposed collection is necessary for the FHWA's performance; (2) the accuracy of the estimated burdens; (3) ways for the FHWA to enhance the quality, usefulness, and clarity of the collected information; and (4) ways that the burdens could be minimized, including use of electronic technology, without reducing the quality of the collected information. The agency will summarize and/or include your comments in the request for OMB's clearance of this information collection.

Electronic Access: Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's home page at http://www.nara.gov/fedreg and the Government Printing Office's database at http://www.access.gpo.gov/nara.

Authority: The Paperwork Reduction Act of 1995; 44 U.S.C. Chapter 35, as amended; and 49 CFR 1.48.

Issued on: March 15, 2002.
James R. Kabel,
Chief, Management Programs, and Analysis Division.

[FR Doc. 02-6821 Filed 3-20-02; 8:45 am]

BILLING CODE 4910-22-P